DEPARTMENT OF COMMERCE

International Trade Administration

[C-489-806]

Certain Pasta From Turkey: Extension of Time Limit for Preliminary Results of the Countervailing Duty Administrative Review

AGENCY: Import Administration, International Trade Administration, Department of Commerce.

DATES: Effective Date: March 20, 2006.

FOR FURTHER INFORMATION CONTACT: Brandon Farlander or Audrey Twyman, AD/CVD Operations, Office 1, Import Administration, U.S. Department of Commerce, 14th Street and Constitution Avenue, NW., Washington DC 20230; telephone: (202) 482-0182 and (202) 482-3534, respectively.

Background

On July 24, 1996, the Department published in the Federal Register (61 FR 38546) the countervailing duty order on certain pasta from Turkey. On July 1, 2005, the Department published in the Federal Register a notice of “Opportunity to Request Administrative Review” of this countervailing duty order (70 FR 38099). We received one request for review on July 29, 2005, and initiated the review for calendar year 2004, on August 29, 2005 (70 FR 51009). The preliminary results for this review are currently due no later than April 3, 2006.

Extension of Time Limits for Preliminary Results

Section 7512(a)(3)(A) of the Tariff Act of 1930, as amended (“the Act”), requires the Department of Commerce (“Department”) to issue the preliminary results of an administrative review within 245 days after the last day of the anniversary month of an order for which a review is requested and the final results of review within 120 days after the date on which the preliminary results are published. If it is not practicable to complete the review within the time period, section 751(a)(3)(A) of the Act allows the Department to extend these deadlines to a maximum of 365 days and 180 days, respectively.

We currently analyzing supplemental information provided by the respondent and the Government of Turkey in this review. Because the Department requires additional time to review, analyze, and, if necessary, to issue additional supplemental questionnaires, it is not practicable to complete this review within the originally anticipated time limit (i.e., by April 3, 2006). Therefore, the Department is extending the time limit for completion of the preliminary results to not later than June 5, 2006, in accordance with section 751(a)(3)(A) of the Act.

We are issuing and publishing this notice in accordance with sections 751(a)(1) and 777(i)(1) of the Act.

Dated: March 14, 2006.
Stephen J. Claeys,
Deputy Assistant Secretary for Import Administration.

[FR Doc. 06-2647 Filed 3-17-06; 8:45 am]

BILLING CODE 3510-DS-M